ENVIRONMENTAL PROTECTION AGENCY

40 CFR Part 62

[PA152-4099a; FRL-6705-7]

Approval and Promulgation of State Air Quality Plans for Designated Facilities and Pollutants; Allegheny County, Pennsylvania; Control of Emissions from Existing Hospital/Medical/Infectious Waste Incinerators; Correction

AGENCY: Environmental Protection Agency (EPA).

ACTION: Direct final rule; correcting amendment.

SUMMARY: This document corrects minor errors in the text of rule language in a published final rule pertaining to EPA's approval of the Allegheny County, Pennsylvania hospital/medical/ /infectious waste incinerator (HMIWI) 111(d)/129 plan submitted by the Commonwealth of Pennsylvania.

EFFECTIVE DATE: June 6, 2000.

FOR FURTHER INFORMATION CONTACT: James B. Topsale, (215) 814-2190 or by e-mail at topsale.jim@epa.gov.

SUPPLEMENTARY INFORMATION: Throughout this document wherever “we,” or “our” are used, we mean EPA. On April 7, 2000 (65 FR 18249), we published a final rulemaking action announcing our approval of the Allegheny County, Pennsylvania hospital/medical/infectious waste incinerator (HMIWI) 111(d)/129 plan submitted by the Commonwealth of Pennsylvania. In the text of that document, we inadvertently made two minors. Neither the rationale for nor the intent of the April 7, 2000 direct final rule was affected by these minor errors. This action simply corrects the erroneous language in the published final rulemaking.

To the final rule (FR Docket 00-8660) published in the Federal Register on April 7, 2000 (65 FR 18249), we are making the following corrections:

(1) On page 18251 in the first column, the revised rule language to the second answer (A.) is corrected to read, “* * * meeting the maximum achievable control technology * * *”.

The word “available” was inadvertently inserted in place of “achievable”.

(2) On page 18252 in the third column under § 62.9662 Effective Date, the text is revised to read, “The effective date of the plan is June 6, 2000.”

The phrase “* * * for municipal solid waste landfills * * *” was inadvertently included in the sentence and is hereby deleted.

Section 553 of the Administrative Procedure Act, 5 U.S.C. 553(b)(B), provides that, when an agency for good cause finds that notice and public procedures are impracticable, unnecessary or contrary to the public interest, the agency may issue a rule without providing notice and an opportunity for public comment. We have determined that there is good cause for making today's rule final without prior proposal and opportunity for comment because we are merely correcting minor errors in the text of a previous action. Thus, notice and public procedures are unnecessary. We find that this constitutes good cause under 5 U.S.C. 553(b)(B).

Administrative Requirements

Under Executive Order 12866 (58 FR 51735, October 4, 1993), this action is not a “significant regulatory action” and is therefore not subject to review by the Office of Management and Budget. Because the agency has made a “good cause” finding that this action is not subject to notice-and-comment requirements under the Administrative Procedures Act or any other statute as indicated in the Supplementary Information section above, it is not subject to the regulatory flexibility provisions of the Regulatory Flexibility Act (5 U.S.C 601 et seq.), or to sections 202 and 205 of the Unfunded Mandates Reform Act of 1995 (UMRA) (Public Law 104-4). In addition, this action does not significantly or uniquely affect small governments or impose a significant intergovernmental mandate, as described in sections 203 and 204 of UMRA. This rule also does not significantly or uniquely affect the communities of tribal governments, as specified by Executive Order 13084 (63 FR 27655, May 10, 1998). This rule will not have substantial direct effects on the States, on the relationship between the national government and the States, or on the distribution of power and responsibilities among the various levels of governments, as specified by Executive Order 13132 (64 FR 43255, August 10, 1999). This rule also is not subject to Executive Order 13045 (62 FR 19885, April 23, 1997), because it is not economically significant.

This technical correction action does not involve technical standards; thus the requirements of section 12(d) of the National Technology Transfer and Advancement Act of 1995 (15 U.S.C. 272 note) do not apply. The rule also does not involve special consideration of environmental justice related issues as required by Executive Order 12898 (59 FR 7629, February 16, 1994). In issuing this rule, EPA has taken the necessary steps to eliminate drafting errors and ambiguity, minimize potential litigation, and provide a clear legal standard for affected conduct, as required by section 3 of Executive Order 12988 (61 FR 4729, February 7, 1996). EPA has complied with Executive Order 12630 (53 FR 8859, March 15, 1998) by examining the takings implications of the rule in accordance with the “Attorney General's Supplemental Guidelines for the Evaluation of Risk and Avoidance of Unanticipated Takings” issued under the executive order. This rule does not impose an information collection burden under the Paperwork Reduction Act of 1995 (44 U.S.C. 3501 et seq.).

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This determination must be supported by a brief statement. 5 U.S.C. 808(2). As stated previously, EPA had made such a good cause finding, including the reasons therefore, and established an effective date of June 6, 2000. EPA will submit a report containing this rule and other required information to the U.S. Senate, the U.S. House of Representatives, and the Comptroller General of the United States prior to publication of the rule in the Federal Register. These corrections to the preamble and 40 CFR 62.9662 for Pennsylvania is not a “major rule” as defined by 5 U.S.C. 804(2).

Dated: May 10, 2000.
Bradley M. Campbell,
Regional Administrator, Region III.

[FR Doc. 00-13205 Filed 5-25-00; 8:45 am]

BILLING CODE 6560-50-P